DEPARTMENT OF THE TREASURY

Fiscal Service

31 CFR Part 285

RIN 1510-AB19

Debt Collection Authorities Under the Debt Collection Improvement Act of 1996

AGENCY: Financial Management Service, Fiscal Service, Treasury.

ACTION: Final rule.

SUMMARY: This final rule adopts the interim rule, published in the Federal Register on June 11, 2009, concerning the time limitation on the collection of nontax debts by centralized offset.

DATES: This rule is effective December 23, 2009.

FOR FURTHER INFORMATION CONTACT: Thomas Dungan, Policy Analyst, at (202) 874-6660, or Tricia Long, Senior Attorney, at (202) 874-6680.

SUPPLEMENTARY INFORMATION:

I. Background

The Food, Conservation and Energy Act of 2008, Public Law 110-334, Section 14219, 22 Stat. 923 (2008) (“the Act”) amended the Debt Collection Act of 1982 (as amended by the Debt Collection Improvement Act of 1996) to remove a restriction on the collection of debt by administrative offset, i.e., offset of payments pursuant to 31 U.S.C. 3716. Prior to this change, administrative offset to collect debt was only available if the debt was delinquent for a period of less than ten years. The amendment to the law allows for the collection of debt by administrative offset without any time limitation and applies to any debt outstanding on or after the date of the enactment of the Act.

On June 11, 2009, the Financial Management Service published in the Federal Register an interim rule implementing the statutory change. (See 74 FR 27707, June 11, 2009).

Comments on the Interim Rule

By the close of the comment period, FMS received no comments on the interim rule.

Adoption as Final Rule

Accordingly, the interim rule amending 31 CFR part 285, published at 74 FR 27707, June 11, 2009, is adopted as a final rule without change.

Dated: December 18, 2009.
Richard L. Gregg,
Acting Fiscal Assistant Secretary.

[FR Doc. E9-30549 Filed 12-22-09; 8:45 am]

BILLING CODE 4810-35-P